DEPARTMENT OF HEALTH AND HUMAN SERVICES

Administration for Children and Families

45 CFR Parts 302, 303 and 307

RIN 0970-AC01

State Parent Locator Service; Safeguarding Child Support Information

AGENCY: Office of Child Support Enforcement (OCSE), Administration for Children and Families (ACF), Department of Health and Human Services.

ACTION: Delay of effective date.

SUMMARY: In accordance with the memorandum of January 20, 2009, from the Assistant to the President and Chief of Staff, entitled “Regulatory Review,” this action delays until December 30, 2010, the effective date of the final rule entitled “State Parent Locator Service; Safeguarding Child Support Information,” published in the Federal Register on September 26, 2008 (73 FR 56422). The delay in effective date is necessary to give Department officials the opportunity for further review of the issues of law and policy raised by this rule.

DATES: The effective date of the rule amending 45 CFR parts 302, 303, and 307 published in the September 26, 2008 Federal Register (73 FR 56442), which was delayed on March 20, 2009 (74 FR 11879), is further delayed until December 30, 2010.

FOR FURTHER INFORMATION CONTACT: Yvette Riddick, Office of Child Support Enforcement, Division of Policy, (202) 401-4885.

SUPPLEMENTARY INFORMATION:

I. Background

On September 26, 2008, a final rule following notice and comment period entitled “State Parent Locator Service; Safeguarding Child Support Information” was published in the Federal Register [73 FR 56422] to address requirements for State Parent Locator Service responses to authorized location requests, State IV-D program safeguarding of confidential information, authorized disclosures of this information, and restrictions on the use of confidential data and information for child support purposes with exceptions for certain disclosures permitted by statute. The effective date given for the final rule was March 23, 2009.

In accordance with the memorandum of January 20, 2009, from the Assistant to the President and Chief of Staff entitled “Regulatory Review” [74 FR 4435], on March 3, 2009, we published a notice in the Federal Register [74 FR 9171], seeking public comment on a contemplated delay of 60 days in the effective date of the rule entitled “State Parent Locator Service; Safeguarding Child Support Information.” In response to comment, the Department issued a subsequent notice on March 20, 2009 [74 FR 11879] delaying the effective date of the September 26, 2008 rule by 60 days until May 22, 2009, in order to permit officials of the new Administration an opportunity to review and approve the policies in the regulation.

However, subsequent to publication of the March 20, 2009 notice, we determined that additional time would be needed for Department officials to complete their review of the rule and to assess fully the comments received in response to the March 3, 2009 notice. As a result, on April 15, 2009, a notice was published in the Federal Register [74 FR 17445] indicating that the Department was contemplating a further delay in the effective date of the “State Parent Locator; Safeguarding Child Support Information” final rule to December 30, 2010. As discussed below, the April 15, 2009 notice generated three comments, all of which supported the December 30, 2010 effective date.

II. Provision of This Action

This action further delays the effective date of the September 26, 2008 final rule. The effective date of the final rule which would have been May 22, 2009, is now December 30, 2010. The delay in the effective date is necessary to give Department officials the opportunity for further review of the issues of law and policy raised by the rule.

III. Comments Received in Response to the April 15, 2009 Notice

We received three comments in response to the April 15, 2009 notice with comment period on the contemplated delay in the effective date of the “State Parent Locator Service; Safeguarding Child Support Information” final rule. Although the April 15, 2009 notice invited comments on the contemplated extension of the effective date of the regulation to December 30, 2010, it also generated comments recommending changes to substantive areas of the final rule. All commenters supported the delayed effective date and as a result, we are delaying the effective date of the rule to December 30, 2010 to allow sufficient time for Department officials to review issues of law and policy raised by the rule.

A summary of the comments received follows:

Comments: All three commenters supported the contemplated delay in the effective date. Two of the commenters also provided comments that are substantive in nature. One commenter was concerned about the provisions of the rule that authorize disclosure of State child support data to private child support collection agencies (PCAs), companies that do not operate under a contract with the State or county child support program, but instead contract directly with custodial parents. The same commenter also recommended that the Department review the child welfare provision of the rule to ensure that it fully complies with the Fostering Connections to Success and Increasing Adoptions Act signed into law on October 7, 2008 after the publication of the final rule September 26, 2008. For example, the new law raises a set of questions about whether data maintained through the Federal Parent Locator Service and the State Parent Locator Service are available to assist State child welfare agencies in carrying out their responsibilities to locate adult relatives of children removed from parental custody in order to identify potential placements.

The other substantive comment raised similar concerns regarding PCAs. In particular, the commenter was concerned with the PCAs being an “agent of the child” for the purpose of locate requests under section 453 of the Social Security Act. The commenter believes that the PCA in child support matters represents the parent, not the child, thus is not “the agent of the child” and is not authorized to receive any Federal Parent Locator Service information from the IV-D agency. The commenter also suggested that similar to the access provided to title IV Social Security Act programs, human service programs serving the same family as the child support program should have clear and unambiguous access to Federal information. For example, the commenter encouraged the Office of Child Support Enforcement to provide the Supplemental Nutrition Assistance Program access to child support information to determine income eligibility.

Response: The Department believes that the comments received on the notice published in the Federal Register on April 15, 2009 [74 FR 17445] soliciting comments on the delay in the effective date of the rule support the delay in the effective date until December 30, 2010. While the substantive comments on the policies contained in the rule were not solicited, the delay will provide time for Department officials to assess those comments as well as review all issues of law and policy raised by the rule.

(Catalog of Federal Domestic Assistance Program No. 93.563, Child Support Enforcement)

Dated: May 18, 2009.
Kathleen Sebelius,
Secretary.

[FR Doc. E9-11936 Filed 5-20-09; 8:45 am]

BILLING CODE P